DEPARTMENT OF COMMERCE

International Trade Administration

[A-469-817]

Ripe Olives From Spain: Final Results of Antidumping Duty Administrative Review; 2018-2019

AGENCY: Enforcement and Compliance, International Trade Administration, Department of Commerce.

SUMMARY: The Department of Commerce (Commerce) determines that the producers/exporters subject to this review made sales of subject merchandise in the United States at less than normal value during the period of review (POR) January 26, 2018, through July 31, 2019.

DATES: Applicable July 1, 2021.

FOR FURTHER INFORMATION CONTACT: Dmitry Vladimirov, AD/CVD Operations, Office I, Enforcement and Compliance, International Trade Administration, U.S. Department of Commerce, 1401 Constitution Avenue NW, Washington, DC 20230; telephone: (202) 482-0665.

SUPPLEMENTARY INFORMATION:

Background

On December 28, 2020, Commerce published the Preliminary Results of the 2018-2019 administrative review of the antidumping duty order on ripe olives from Spain.¹ The administrative review covers three producers or exporters of the subject merchandise, Agro Sevilla Aceitunas S. Coop. And. (Agro Sevilla), Camacho Alimentacion S.L. (Angel Camacho), and Alimentary Group Dcoop S. Coop. And. (Dcoop). We invited interested parties to comment on the Preliminary Results. On February 1, 2021, we received case briefs from the domestic interested parties, Musco Family Olive Company (Musco) and Bell-Carter Foods, LLC (BCF), both members of the Coalition for Fair Trade in Ripe Olives, and from the mandatory respondents, Agro Sevilla, Angel Camacho, and Dcoop.² On February 8, 2021, Musco, Agro Sevilla, Angel Camacho, and Dcoop submitted rebuttal briefs.³ On April 5, 2021, Commerce extended the deadline for the final results by 59 days to June 25, 2021.⁴ Commerce conducted this review in accordance with section 751(a)(1)(B) of the Tariff Act of 1930, as amended (the Act).

¹ See Ripe Olives from Spain: Preliminary Results of Antidumping Duty Administrative Review; 2018-2019, 85 FR 84297 (December 28, 2020) (Preliminary Results), and accompanying Preliminary Decision Memorandum (PDM).

² See Musco's Letters, “Ripe Olives from Spain; 1st Administrative Review Musco Case Brief Concerning Agro Sevilla,” dated February 1, 2021; “Ripe Olives from Spain; 1st Administrative Review Musco Case Brief Concerning Camacho,” dated February 1, 2021; and “Ripe Olives from Spain; 1st Administrative Review Musco Case Brief Concerning Dcoop,” dated February 1, 2021; see also BCF's Letter, “Ripe Olives from Spain: Case Brief,” dated February 1, 2021; Agro Sevilla's Letter, “Case Brief of Agro Sevilla Ripe Olives from Spain (A-469-817) POR1,” dated February 1, 2021; Angel Camacho's Letter, “Case Brief of Camacho Alimentación S.L. Ripe Olives from Spain (A-469-817) POR1,” dated February 1, 2021; and Dcoop's Letter, “Ripe Olives from Spain: Case Brief,” dated February 1, 2021.

³ See Musco's Letters, “Ripe Olives from Spain; 1st Administrative Review Musco Rebuttal Brief Concerning Agro Sevilla,” dated February 8, 2021; “Ripe Olives from Spain; 1st Administrative Review Musco Rebuttal Brief Concerning Camacho,” dated February 8, 2021; “Ripe Olives from Spain; 1st Administrative Review Musco Rebuttal Brief Concerning Dcoop,” dated February 8, 2021; and “Ripe Olives from Spain; 1st Administrative Review Musco Rebuttal Brief Concerning BCF,” dated February 8, 2021; see also Agro Sevilla's Letter, “Rebuttal Brief of Agro Sevilla Ripe Olives from Spain (A-469-817) POR1,” dated February 8, 2021; Angel Camacho's Letter, “Rebuttal Brief of Camacho Alimentación S.L. Ripe Olives from Spain (A-469-817) POR1,” dated February 8, 2021; and Dcoop's Letter, “Ripe Olives from Spain: Rebuttal Brief,” dated February 8, 2021.

⁴ See Memorandum, “Ripe Olives from Spain: Extension of Deadline for Final Results of Antidumping Duty Administrative Review,” dated April 5, 2021.

Scope of the Order

The merchandise subject to the order are ripe olives. A full description of the scope of the order is contained in the Issues and Decision Memorandum.⁵

⁵ See Memorandum, “Ripe Olives from Spain: Issues and Decision Memorandum for the Final Results of Antidumping Duty Administrative Review; 2018-2019,” dated concurrently with, and hereby adopted by this notice (Issues and Decision Memorandum).

Analysis of Comments Received

All issues raised in the case and rebuttal briefs that were submitted by parties in this investigation are addressed in the Issues and Decision Memorandum. A list of the topics discussed in the Issues and Decision Memorandum is attached as an Appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn.

Changes Since the Preliminary Results

Based on the comments received we made changes for these final results which are discussed in the Issues and Decision Memorandum.

Final Results of the Administrative Review

We determine that the following weighted-average dumping margins exist for the period January 26, 2018, through July 31, 2019.

Producer/exporter | Weighted- average dumping margin (percent)
Agro Sevilla Aceitunas S.COOP Andalusia | 15.65
Angel Camacho Alimentacion S.L | 22.41
Alimentary Group Dcoop S. Coop. And | 5.78

Disclosure

We intend to disclose the calculations performed in connection with these final results to parties in this proceeding within five days after the date of publication of the final results or, if there is no public announcement, within five days of the date of publication of the notice of final results in the Federal Register, in accordance with 19 CFR 351.224(b).

Assessment Rates

Pursuant to section 751(a)(2)(A) of the Act and 19 CFR 351.212(b)(1), Commerce will determine, and U.S. Customs and Border Protection (CBP) shall assess, antidumping duties on all appropriate entries of subject merchandise in accordance with the final results of this review.

For Agro Sevilla, Angel Camacho, and Dcoop, we calculated importer-specific assessment rates on the basis of the ratio of the total amount of dumping calculated for each importer's examined sales and the total entered value of those sales in accordance with 19 CFR 351.212(b)(1).⁶ Where an importer-specific assessment rate is de minimis (i.e., less than 0.5 percent), the entries by that importer will be liquidated without reference to antidumping duties.

⁶ In these final results, Commerce applied the assessment rate calculation method adopted in Antidumping Proceedings: Calculation of the Weighted-Average Dumping Margin and Assessment Rate in Certain Antidumping Duty Proceedings; Final Modification, 77 FR 8101 (February 14, 2012).

For entries of subject merchandise during the POR produced by each respondent for which it did not know that its merchandise was destined for the United States, we will instruct CBP to liquidate unreviewed entries at the all-others rate if there is no rate for the intermediate company(ies) involved in the transaction.⁷

⁷ See Antidumping and Countervailing Duty Proceedings: Assessment of Antidumping Duties, 68 FR 23954 (May 6, 2003).

Consistent with its recent notice,⁸ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

⁸ See Notice of Discontinuation of Policy to Issue Liquidation Instructions After 15 Days in Applicable Antidumping and Countervailing Duty Administrative Proceedings, 86 FR 884 (Jan.15, 2021).

Cash Deposit Requirements

The following cash deposit requirements will be effective upon publication in the Federal Register of this notice for all shipments of ripe olives entered, or withdrawn from warehouse, for consumption on or after the date of publication as provided by section 751(a)(2) of the Act: (1) The cash deposit rates for the companies subject to this review will be equal to the weighted-average dumping margin established in the final results of the review; (2) for merchandise exported by producers or exporters not covered in this review but covered in a prior completed segment of the proceeding, the cash deposit rate will continue to be the company-specific rate published in the completed segment for the most recent period; (3) if the exporter is not a firm covered in this review, a prior review, or the original investigation but the producer has been covered in a prior completed segment of this proceeding, then the cash deposit rate will be the rate established in the completed segment for the most recent period for the producer of the merchandise; (4) the cash deposit rate for all other producers or exporters will continue to be 19.98 percent, the all-others rate established in the less-than-fair-value investigation for this proceeding.⁹ These cash deposit requirements, when imposed, shall remain in effect until further notice.

⁹ See Ripe Olives from Spain: Antidumping Duty Order, 83 FR 37465 (August 1, 2018).

Notification to Importers

This notice serves as a final reminder to importers of their responsibility under 19 CFR 351.402(f)(2) to file a certificate regarding the reimbursement of antidumping duties prior to liquidation of the relevant entries during this POR. Failure to comply with this requirement could result in the Secretary's presumption that reimbursement of antidumping duties occurred and the subsequent assessment of double antidumping duties.

Notification Regarding Administrative Protective Orders

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notification to Interested Parties

We are issuing and publishing these results of administrative review in accordance with sections 751(a) and 777(i) of the Act and 19 CFR 351.221(b)(5).

Dated: June 25, 2021.
Ryan Majerus,
Deputy Assistant Secretary for Policy and Negotiations.

Appendix

List of Topics Discussed in the Issues and Decision Memorandum

I. Summary

II. Background

III. Scope of the Order

IV. Changes Since the Preliminary Results

V. Discussion of the Issues

Agro Sevilla

Comment 1: Home-Market Database

Comment 2: Constructed Export Price Offset

Comment 3: Major-Input Rule Adjustment

Angel Camacho

Comment 4: Price Comparisons for a Certain Product Control Number Sold in the U.S. Market

Comment 5: Cost Adjustment to Ending Inventory Value

Comment 6: General and Administrative Expenses

Comment 7: Certain Inland Freight Expenses

Comment 8: Beginning Dates in Programs

DCoop

Comment 9: Whether Commerce Should Apply Adverse Facts Available to Dcoop's Cost Database

Comment 10: Application of Adverse Facts Available to Dcoop's General and Administrative Expenses

Comment 11: Early Payment and Quantity Discounts

Comment 12: U.S. Freight and U.S. Indirect Selling Expenses

Comment 13: Rescission of the Administrative Review of Dcoop

VI. Recommendation

[FR Doc. 2021-14060 Filed 6-30-21; 8:45 am]

BILLING CODE 3510-DS-P